DEPARTMENT OF TRANSPORTATION

Federal Aviation Administration

Notice of Intent To Rule on Application (04-05-C-00-GCC) To Impose and Use the Revenue From a Passenger Facility Charge (PFC) at the Gillette-Campbell County Airport, Submitted by the County of Campbell and the City of Gillette, WY

AGENCY: Federal Aviation Administration (FAA), DOT.

ACTION: Notice of intent to rule on application.

SUMMARY: The FAA proposes to rule and invites public comment on the application to impose and use PFC revenue at the Gillette-Campbell County Airport under the provisions of 49 U.S.C. 40117 and Part 158 of the Federal Aviation Regulations (14 CFR 158).

DATES: Comments must be received on or before September 15, 2004.

ADDRESSES: Comments on this application may be mailed or delivered in triplicate to the FAA at the following address: Mr. Craig A. Sparks, Manager; Denver Airports District Office, DEN-ADO, Federal Aviation Administration; 26805 East 68th Avenue, Suite 224, Denver, Colorado 80249.

In addition, one copy of any comments submitted to the FAA must be mailed or delivered to Mr. Jay Lundell, Airport Manager, at the following address: 2000 Airport Road, Suite 108, Gillette, Wyoming 8271.

Air Carriers and foreign air carriers may submit copies of written comments previously provided to the Gillette-Campbell County Airport, under section 158.23 of Part 158.

FOR FURTHER INFORMATION CONTACT: Mr. Christopher J. Schaffer, (303) 342-1258, 26805 East 68th Avenue, Suite 224, Denver, Colorado 80249. The application may be reviewed in person at this same location.

SUPPLEMENTARY INFORMATION: The FAA proposes to rule and invites public comment on the application 04-05-C-00-GCC to impose and use PFC revenue at the Gillette-Cambell County Airport, under the provisions of 49 U.S.C. 40117 and Part 158 of the Federal Aviation Regulations (14 CFR Part 158).

On August 9, 2004, the FAA determined that the application to impose and use the revenue from a PFC submitted by the County of Campbell and the City of Gillette, Wyoming, was substantially complete within the requirements of section 158.25 of Part 158. The FAA will approve or disapprove the application, in whole or in part, no later than November 12, 2004.

The following is a brief overview of the application.

Level of the proposed PFC: $4.50.

Proposed charge effective date: December 1, 2004.

Proposed charge expiration date: September 1, 2007.

Total requested for impose and use approval: $170,000.

Brief description of proposed project: Acquire two snow removal equipment vehicles.

Class or classes of air carriers which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Gillette-Campbell County Airport.

Issued in Renton, Washington, on August 9, 2004.
David A. Field,
Manager, Planning, Programming and Capacity Branch, Northwest Mountain Region.

[FR Doc. 04-18708 Filed 8-13-04; 8:45 am]

BILLING CODE 4910-13-M